DEPARTMENT OF ENERGY

Federal Energy Regulatory Commission

[Project No. 2302-101]

Brookfield White Pine Hydro, LLC; Notice of Revised Schedule for Environmental Assessment

On August 28, 2024, Brookfield White Pine Hydro, LLC filed an application for a new major license for the 26.84-megawatt Lewiston Falls Hydroelectric Project (Lewiston Falls Project; FERC No. 2302). The Lewiston Falls project is located on the Androscoggin River in Androscoggin County, Maine.

In accordance with the Commission's regulations, on May 15, 2025, Commission staff issued a notice that the project was ready for environmental analysis (REA Notice). Based on the information in the record, including comments filed on the REA Notice, staff does not anticipate that licensing the project would constitute a major federal action significantly affecting the quality of the human environment. On July 30, 2025, the Commission issued a notice indicating that staff intended to prepare a draft and final Environmental Assessment (EA). The notice included an anticipated schedule for issuing the draft EA in January 2026. However, upon further review, staff intends to prepare a single EA on the application to relicense the Lewiston Falls Project.¹

¹ For tracking purposes under the National Environmental Policy Act, the unique identification number for documents relating to this environmental review is EAXX-019-20-000-1753881652.

The EA will be issued and circulated for review by all interested parties. All comments filed on the EA will be analyzed by staff and considered in the Commission's final licensing decision.

For public inquiries and assistance with making filings such as interventions, comments, or requests for rehearing, contact the Office of Public Participation at (202) 502-6595 or OPP@ferc.gov.

By this notice, Commission staff is updating the procedural schedule for completing the EA. The revised schedule is shown below. The EA will be issued for a 30-day comment period. Revisions to the schedule may be made as appropriate.

Milestone | Target date
Commission issues EA | June 15, 2026.

Any questions regarding this notice may be directed to Lauren Townson at Lauren.Townson@ferc.gov.

(Authority: 18 CFR 2.1)

Dated: January 22, 2026.
Carlos D. Clay,
Deputy Secretary.

[FR Doc. 2026-01581 Filed 1-26-26; 8:45 am]

BILLING CODE 6717-01-P